NATIONAL LABOR RELATIONS BOARD

Amendment of Statement of Organization and Functions; Restructuring of National Labor Relations Board's Field Organization

November 28, 2012.

AGENCY: National Labor Relations Board.

ACTION: Notice of administrative change in status of the following offices of the National Labor Relations Board:

• Kansas City Regional Office (Region 17) to be designated as Subregional Office (Subregion 17) of the St. Louis Regional Office (Region 14)

• Winston-Salem Regional Office (Region 11) to be designated as Subregional Office (Subregion 11) of the Atlanta Regional Office (Region 10)

• Hartford Regional Office (Region 34) to be designated as Subregional Office (Subregion 34) of the Boston Regional Office (Region 1)

• Memphis Regional Office (Region 26) to be designated as Subregional Office (Subregion 26) of the New Orleans Regional Office (Region 15)

• Transfer of supervision over the Little Rock Resident Office from the Memphis Regional Office to the New Orleans Regional Office (Region 15)

• Transfer of supervision over the Nashville Resident Office from Memphis Regional Office to the Atlanta Regional Office (Region 10)

• Transfer of supervision over the Peoria Subregional Office (Subregion 33) from the St. Louis Regional Office to the Indianapolis Regional Office (Region 25)

SUMMARY: The National Labor Relations Board is restructuring its Regional Offices in Kansas City, Winston-Salem, Hartford and Memphis to designate them as Subregional Offices assigned to the supervision of the St. Louis, Atlanta, Boston and New Orleans Regional Offices, respectively. As part of this restructuring, the supervision of the Little Rock Resident Office will be transferred from the Memphis Regional Office to the New Orleans Regional Office, the supervision of the Nashville Resident Office will be transferred from the Memphis Regional Office to the Atlanta Regional Office and the supervision of the Peoria Subregional Office will be transferred from the St. Louis Regional Office to the Indianapolis Regional Office. Concurrent with this Notice, the National Labor Relations Board is revising its Statement of Organization and Functions accordingly. These revisions are nonsubstantive or merely procedural in nature.

DATES: Effective Date: December 10, 2012.

FOR FURTHER INFORMATION CONTACT: Lester A. Heltzer, Executive Secretary, 1099 14th Street NW., Room 11600, Washington, DC 20570. Telephone: (202) 273-1067

SUPPLEMENTARY INFORMATION: The National Labor Relations Board has decided to restructure the Agency's Regional Offices in Kansas City, Winston-Salem, Hartford, and Memphis to designate them as Subregional Offices of the St. Louis, Atlanta, Boston and New Orleans Regional Offices, respectively. The Kansas City office will be redesignated as Subregion 17; the Winston-Salem office will be redesignated as Subregion 11; the Hartford office will be redesignated as Subregion 34; and the Memphis office will be redesignated as Subregion 26. As part of this restructuring, the supervision of the Little Rock Resident Office will be transferred from the Memphis Regional Office to the New Orleans Regional Office, the supervision of the Nashville Resident Office will be transferred from the Memphis Regional Office to the Atlanta Regional Office and the supervision of the Peoria Subregional Office will be transferred from the St. Louis Regional Office to the Indianapolis Regional Office. These changes are prompted by a decline in unfair labor practice and representation case filings in each of the Regional Offices subject to this restructuring and a desire to equalize caseload and case management responsibilities in all affected Offices.

The Kansas City, Winston-Salem, Hartford, and Memphis Regional Offices were headed by a Regional Director, who had full authority for the processing of both unfair labor practice and representation cases. The newly-designated Subregional Offices will now be headed by an Officer-in-Charge, who will report to their respective Regional Directors in St. Louis, Atlanta, Boston, and New Orleans. These changes will vest these Regional Directors with casehandling authority for the geographical area covered by their newly-designated Subregional Office. The geographical areas covered by the Regional and Subregional Offices will continue to be the same as when they were designated as Regional Offices with the following exceptions:

The Atlanta Regional Office would service the following additional counties in Tennessee: Bedford, Benton, Bledsoe, Cannon, Cheatham, Clay, Coffee, Cumberland, Davidson, DeKalb, Dickson, Fentress, Franklin, Giles, Grundy, Henry, Hickman, Houston, Humphreys, Jackson, Lawrence, Lewis, Lincoln, Macon, Marion, Marshall, Maury, Montgomery, Moore, Overton, Perry, Pickett, Putnam, Robertson, Rutherford, Sequatchie, Smith, Stewart, Sumner, Trousdale, Van Buren, Warren, Wayne, White, Williamson, and Wilson; as well as the following counties in Kentucky: Adair, Allen, Ballard, Barren, Breckinridge, Butler, Caldwell, Calloway, Carlisle, Christian, Clinton, Crittenden, Cumberland, Edmondson, Fulton, Graves, Grayson, Green, Hancock, Hart, Hickman, Hopkins, Livingston, Logan, Lyon, Marshall, McCracken, McLean, Metcalfe, Monroe, Muhlenberg, Ohio, Russell, Simpson, Todd, Trigg, Union, Warren, Wayne, and Webster.

The New Orleans Regional Office would now also service Arkansas with the exception of the following counties: Clay, Craighead, Crittenden, Cross, Greene, Lee, Mississippi, Phillips, Poinsett, and St. Francis.

The Subregional Office in Memphis would service in Tennessee only the following counties: Carroll, Chester, Crockett, Decatur, Dyer, Fayette, Gibson, Hardeman, Hardin, Haywood, Henderson, Lake, Lauderdale, McNairy, Madison, Obion, Shelby, Tipton, and Weakley; in Arkansas the following counties: Clay, Craighead, Crittenden, Cross, Greene, Lee, Mississippi, Phillips, Poinsett, and St. Francis; and it would no longer service any portion of Kentucky.

The most recent list of Regional and Subregional Offices was published at 65 FR 53228-53229 on August 29, 2000.

Concurrent with this Notice, the NLRB is revising its Statement of Organization and Functions to reflect the addition of Subregions 17, 11, 34 and 26 supervised by their respective Regional Offices; the elimination of Regions 17, 11, 34 and 26 as Regional Offices; the removal of the Little Rock Resident Office from supervision by the Memphis Regional Office and its assignment instead as a Resident Office of the New Orleans Regional Office; the removal of the Nashville Resident Office from supervision by the Memphis Regional Office and its assignment instead as a Resident Office of the Atlanta Regional Office; and the removal of Subregion 33 Peoria from supervision by Region 14 St. Louis, and its assignment instead as a Subregional Office of Region 25 Indianapolis. The revisions to the Board's Statement of Organization and Functions are attached hereto.

Since May 2012, the NLRB has solicited and received feedback on the proposed restructuring of these offices. The decision to restructure the Agency's operations in the manner set forth herein was informed by comments from stakeholders, members of Congress and Agency employees. Because this is a general notice that is related to the organization of the NLRB, it is not a regulation or rule subject to Executive Order 12,866.

Pursuant to the changes set forth herein, the National Labor Relations Board is amending its Statement of Organization and Functions as follows:

Part 201—Description of Organization

Subpart B—Description of Field Organization

(A) Section 203 is amended to read as follows:

Sec. 203 Regional Offices. There are 28 Regional Offices through which the Board conducts its business. Certain of the Regions have Subregional Offices or Resident Offices in addition to the central Regional Office. The areas constituting the Regions and the location of the Regional, Subregional, and Resident Offices are set forth in an appendix hereto. Each Regional Office staff is headed by a Regional Director appointed by the Board on the recommendation of the General Counsel and includes a Regional Attorney, Assistant to the Regional Director, field attorneys, field examiners, and clerical staff. Each Subregional Office is headed by an Officer-in-Charge appointed in the same manner as the Regional Directors. Each Resident Office is headed by a Resident Officer.

(B) “Appendix—Regional and Subregional Offices” is amended to read as follows:

Appendix—Regional and Subregional Offices

Alphabetical list of States showing location in relation to Regions and Subregions. (Note that respective Region number follows Subregion number to facilitate locating areas serviced.)

Region and Subregion Nos.
Alabama | 10, 15
Alaska | 19
Arizona | 28
Arkansas | 15, 16, S-26 (15)
California | 20, 21, 31, 32
Colorado | 27
Connecticut | S-34 (1)
Delaware | 4, 5
District of Columbia | 5
Florida | 12, 15
Georgia | 10, 12
Hawaii | S-37 (20)
Idaho | 19, 27
Illinois | 13, 14, S-33 (25)
Indiana | 9, 13, 25
Iowa | S-17 (14), 18, S-33 (25)
Kansas | S-17 (14)
Kentucky | 9, 10, 25
Louisiana | 15
Maine | 1
Maryland | 5
Massachusetts | 1
Michigan | 7, 30
Minnesota | 18
Mississippi | 15, S-26 (15)
Missouri | 14, S-17 (14), S-26 (15)
Montana | 19, 27
Nebraska | 27, S-17 (14)
Nevada | 28, 32
New Hampshire | 1
New Jersey | 4, 22
New Mexico | 28
New York | 2, 3, 29
North Carolina | S-11 (10)
North Dakota | 18
Ohio | 8, 9
Oklahoma | S-17 (14)
Oregon | S-36 (19)
Pennsylvania | 4, 5, 6
Rhode Island | 1
South Carolina | S-11 (10)
South Dakota | 18
Tennessee | 10, S-11 (10), S-26 (15)
Texas | 16, 28
Utah | 27
Vermont | 1
Virginia | 5, S-11 (10)

(C) “Areas Served by Regional and Subregional Offices” is amended in following manner:

(1) Delete reference to Region 34

(2) Region 1 is amended to read as follows:

Region 1. Boston, Massachusetts. Services Maine, New Hampshire, Vermont, Massachusetts, and Rhode Island.

Subregion 34. Hartford, Connecticut. Services Connecticut.

(3) Delete reference to Region 11

(4) Region 10 is amended to read as follows:

Region 10. Atlanta, Georgia. In Georgia, services Baker, Baldwin, Banks, Barrow, Bartow, Ben Hill, Berrien, Bibb, Bleckley, Bryan, Bulloch, Burke, Butts, Calhoun, Candler, Carroll, Catoosa, Chatham, Chattahoochee, Chattooga, Cherokee, Clarke, Clay, Clayton, Cobb, Colquitt, Columbia, Cook, Coweta, Crawford, Crisp, Dade, Dawson, DeKalb, Dodge, Dooly, Dougherty, Douglas, Early, Effingham, Elbert, Emanuel, Evans, Fannin, Fayette, Floyd, Forsyth, Franklin, Fulton, Gilmer, Glascock, Gordon, Greene, Gwinnett, Habersham, Hall, Hancock, Haralson, Harris, Hart, Heard, Henry, Houston, Irwin, Jackson, Jasper, Jefferson, Jenkins, Johnson, Jones, Lamar, Laurens, Lee, Liberty, Lincoln, Long, Lumpkin, McDuffie, McIntosh, Macon, Madison, Marion, Meriwether, Miller, Mitchell, Monroe, Montgomery, Morgan, Murray, Muscogee, Newton, Oconee, Oglethorpe, Paulding, Peach, Pickens, Pike, Polk, Pulaski, Putnam, Quitman, Rabun, Randolph, Richmond, Rockdale, Schley, Screven, Spalding, Stevens, Stewart, Sumter, Talbot, Taliaferro, Tattnall, Taylor, Telfair, Terrell, Tift, Toombs, Towns, Treutlen, Troup, Turner, Twiggs, Union, Upson, Walker, Walton, Warren, Washington, Webster, Wheeler, White, Whitfield, Wilcox, Wilkes, Wilkinson, and Worth Counties; in Tennessee, services Anderson, Bedford, Benton, Bledsoe, Blount, Bradley, Campbell, Cannon, Carter, Cheatham, Claiborne, Clay, Cocke, Coffee, Cumberland, Davidson, DeKalb, Dickson, Fentress, Franklin, Giles, Grainger, Greene, Grundy, Hamblen, Hamilton, Hancock, Hawkins, Henry, Hickman, Houston, Humphreys, Jackson, Jefferson, Johnson, Knox, Lawrence, Lewis, Lincoln, Loudon, McMinn, Macon, Marion, Marshall, Maury, Meigs, Monroe, Montgomery, Moore, Morgan, Overton, Perry, Pickett, Polk, Putnam, Rhea, Roane, Robertson, Rutherford, Scott, Sequatchie, Sevier, Smith, Stewart, Sullivan, Sumner, Trousdale, Unicoi, Union, Van Buren, Warren, Washington Wayne, White, Williamson, and Wilson Counties; in Alabama, services Autauga, Bibb, Blount, Calhoun, Chambers, Cherokee, Chilton, Clay, Cleburne, Colbert, Coosa, Cullman, De Kalb, Elmore, Etowah, Fayette, Franklin, Greene, Hale, Jackson, Jefferson, Lamar, Lauderdale, Lawrence, Lee, Limestone, Madison, Marion, Marshall, Morgan, Perry, Pickens, Randolph, St. Clair, Shelby, Sumter, Talladega, Tallapoosa, Tuscaloosa, Walker, and Winston Counties; and in Kentucky services Adair, Allen, Ballard, Barren, Breckinridge, Butler, Caldwell, Calloway, Carlisle, Christian, Clinton, Crittenden, Cumberland, Edmondson, Fulton, Graves, Grayson, Green, Hancock, Hart, Hickman, Hopkins, Livingston, Logan, Lyon, Marshall, McCracken, McLean, Metcalfe, Monroe, Muhlenberg, Ohio, Russell, Simpson, Todd, Trigg, Union, Warren, Wayne, and Webster Counties.

Subregion 11. Winston-Salem, North Carolina. Services North Carolina and South Carolina; in Tennessee, services the city of Bristol in Sullivan County; in Virginia, services Alleghany, Amherst, Appomattox, Bath, Bedford, Bland, Botetourt, Buchanan, Campbell, Carroll, Charlotte, Craig, Dickenson, Floyd, Franklin, Giles, Grayson, Halifax, Henry, Lee, Mecklenburg, Montgomery, Patrick, Pittsylvania, Pulaski, Roanoke, Rockbridge, Russell, Scott, Smyth, Tazewell, Washington, Wise, and Wythe Counties, and the independently incorporated Virginia cities not part of, but located within or adjacent to, the territory by these Virginia counties; and in West Virginia, services Greenbriar, Mercer, Monroe, and Summers Counties.

Persons may also obtain service at the Resident Offices in Birmingham, Alabama and Nashville, Tennessee.

(5) Delete reference to Region 17

(6) Region 14 is amended to read as follows:

Region 14. St. Louis, Missouri. In Illinois services Adams, Alexander, Bond, Brown, Calhoun, Christian, Clark, Clay, Clinton, Coles, Crawford, Cumberland, Edgar, Edwards, Effingham, Fayette, Franklin, Gallatin, Greene, Hamilton, Hardin, Jackson, Jasper, Jefferson, Jersey, Johnson, Lawrence, Macoupin, Madison, Marion, Massac, Monroe, Montgomery, Perry, Pike, Pope, Pulaski, Randolph, Richland, St. Clair, Saline, Scott, Shelby, Union, Wabash, Washington, Wayne, White, and Williamson Counties; and in Missouri, services Audrain, Bollinger, Butler, Callaway, Cape Girardeau, Carter, Clark, Crawford, Dent, Franklin, Gasconade, Iron, Jefferson, Knox, Lewis, Lincoln, Madison, Maries, Marion, Monroe, Montgomery, Oregon, Osage, Perry, Phelps, Pike, Ralls, Reynolds, Ripley, St. Charles, St. Francois, St. Louis, St. Genevieve, Scotland, Scott, Shannon, Shelby, Stoddard, Warren, Washington, and Wayne Counties, and the Independent City of St. Louis.

Subregion 17. Kansas City, Kansas. Services Oklahoma and Kansas; in Missouri, services Adair, Andrew, Atchison, Barry, Barton, Bates, Benton, Boone, Buchanan, Caldwell, Camden, Carroll, Cass, Cedar, Chariton, Christian, Clay, Clinton, Cole, Cooper, Dade, Dallas, Daviess, De Kalb, Douglas, Gentry, Greene, Grundy, Harrison, Henry, Hickory, Holt, Howard, Howell, Jackson, Jasper, Johnson, Laclede, Lafayette, Lawrence, Linn, Livingstone, McDonald, Macon, Mercer, Miller, Moniteau, Morgan, Newton, Nodaway, Ozark, Pettis, Platte, Polls, Pulaski, Putnam, Randolph, Ray, St. Clair, Saline, Schuyler, Stone, Sullivan, Taney, Texas, Vernon, Webster, Worth, and Wright Counties; in Iowa, services Fremont, Mills, and Pottawattamie Counties; and in Nebraska, services Adams, Antelope, Arthur, Blaine, Boone, Boyd, Brown, Buffalo, Burt, Butler, Cass, Cedar, Chase, Cherry, Clay, Colfax, Cuming, Custer, Dakota, Dawson, Dixon, Dodge, Douglas, Dundy, Filmore, Franklin, Frontier, Furnas, Gage, Garfield, Gosper, Grant, Greeley, Hall, Hamilton, Harlan, Hayes, Hitchcock, Holt, Hooker, Howard, Jefferson, Johnson, Kearney, Keith, Keya Paha, Knox, Lancaster, Lincoln, Logan, Loup, McPherson, Madison, Merrick, Nance, Nemaha, Nuckolls, Otoe, Pawnee, Perkins, Phelps, Pierce, Plate, Polls, Red Willow, Richardson, Rock, Saline, Sarpy, Saunders, Seward, Sherman, Stanton, Thayer, Thomas, Thurston, Valley, Washington, Wayne, Webster, Wheeler, and York Counties.

Persons may also obtain service at the Resident Office in Tulsa, Oklahoma.

(7) Delete reference to Region 26

(8) Region 15 is amended to read as follows:

Region 15. New Orleans, Louisiana. Services Louisiana; in Mississippi, services Adams, Amite, Claiborne, Clarke, Copiah, Covington, Forrest, Franklin, George, Greene, Hancock, Harrison, Hinds, Issaquena, Jackson, Jasper, Jefferson, Jefferson Davis, Jones, Kemper, Lamar, Lauderdale, Lawrence, Leake, Lincoln, Madison, Marion, Neshoba, Newton, Pearl River, Perry, Pike, Rankin, Scott, Sharkey, Simpson, Smith, Stone, Walthall, Warren, Wayne, Wilkinson, and Yazoo Counties; in Alabama, services Baldwin, Barbour, Bullock, Butler, Choctaw, Clarke, Coffee, Conecuh, Covington, Crenshaw, Dale, Dallas, Escambia, Geneva, Henry, Houston, Lowndes, Macon, Marengo, Mobile, Monroe, Montgomery, Pike, Russell, Washington, and Wilcox Counties; in Florida, services Bay, Calhoun, Escambia, Franklin, Gulf, Holmes, Jackson, Liberty, Okaloosa, Santa Rosa, Walton, and Washington Counties; and services Arkansas with the exception of Clay, Craighead, Crittenden, Cross, Greene, Lee, Miller, Mississippi, Phillips, Poinsett, and St. Francis Counties.

Subregion 26. Memphis, Tennessee. In Tennessee, services Carroll, Chester, Crockett, Decatur, Dyer, Fayette, Gibson, Hardeman, Hardin, Haywood, Henderson, Lake, Lauderdale, McNairy, Madison, Obion, Shelby, Tipton and Weakley; in Mississippi, services Alcorn, Attala, Benton, Bolivar, Calhoun, Carroll, Chickasaw, Choctaw, Clay, Coahoma, De Soto, Grenada, Holmes, Humphreys, Itawamba, Lafayette, Lee, Leflore, Lowndes, Marshall, Monroe, Montgomery, Noxubee, Oktibbeha, Panola, Pontotoc, Prentiss, Quitman, Sunflower, Tallahatchie, Tate, Tippah, Tishomingo, Tunica, Union, Washington, Webster, Winston, and Yalobusha Counties; in Arkansas services Clay, Craighead, Crittenden, Cross, Greene, Lee, Mississippi, Phillips, Poinsett, and St. Francis Counties and in Missouri services Dunklin, Mississippi, New Madrid, and Pemiscot Counties.

Persons may also obtain service at the Resident Office in Little Rock, Arkansas.

(9) Delete reference to Subregion 33

(10) Region 25 is amended to read as follows:

Region 25. Indianapolis, Indiana. Services Indiana, with the exception of Clark, Dearborn, Floyd, and Lake Counties; and in Kentucky, services Daviess and Henderson Counties.

Subregion 33. Peoria, Illinois. In Illinois, services Boone, Bureau, Carroll, Cass, Champaign, De Kalb, De Witt, Douglas, Ford, Fulton, Grundy, Hancock, Henderson, Henry, Iroquois, Jo Daviess, Kankakee, Kendall, Knox, La Salle, Lee, Livingston, Logan, Macon, Marshall, Mason, McDonough, McHenry, McLean, Menard, Mercer, Morgan, Moultrie, Ogle, Peoria, Piatt, Putnam, Rock Island, Sangamon, Schuyler, Stark, Stephenson, Tazewell, Vermilion, Warren, Whiteside, Winnebago, and Woodford Counties; and in Iowa, services Clinton, Des Moines, Dubuque, Jackson, Lee, Louisa, Muscatine, and Scott Counties.

Dated: Washington, DC this 28th day of November, 2012.
By direction of the Board.
Lester A. Heltzer,
Executive Secretary.

[FR Doc. 2012-29463 Filed 12-5-12; 8:45 am]

BILLING CODE 7545-01-P